DEPARTMENT OF JUSTICE

Notice of Lodging of Settlement Agreement Under the Comprehensive Environmental Response, Compensation, and Liability Act (CERCLA)

Notice is hereby given that on March 13, 2009, a proposed Settlement Agreement Regarding Miscellaneous Federal and State Environmental Sites was filed with the United States Bankruptcy Court for the Southern District of Texas in In re ASARCO LLC, et al., Case No. 05-21207 (Bankr. S.D. Tex.). The Settlement provides the United States with an allowed general unsecured claim in the amount indicated for each of the following Sites: The Tacoma Site—Operable Units (“OU”) 02, 04, and 06 of the Commencement Bay Nearshore Tideflats Superfund Site in and around Tacoma and Ruston, Washington, $27,000,000; the Circle Smelting Site—a former zinc smelter facility located in the Village of Beckemeyer, Illinois, $6,052,390; the Terrible Mine Site—a 44-acre former lead mining and milling site located in the Old Isle Mining District of Custer County, Colorado, $1,400,000; Stephenson/Bennett Mine Site—a 150-acre former mining and milling area in Doña Ana County, New Mexico, $550,000; the Coy Mine Site—a zinc mine in Jefferson County, Tennessee, $200,000; the Richardson Flat Tailings Site—a 160-acre former mine tailings impoundment and the Lower Silver Creek area in Summit County, Utah, $7,400,000; the Jack Waite Mine Site—several mine adits, a former mill site, four tailings ponds, and one or more waste rock piles located on land administered by the Forest Service in the Coeur d'Alene National Forest east of Prichard, Idaho, $11,300,000; the Black Pine Mine Site—mill tailings, a large mine waste rock dump, a seep, and associated wastes located on land administered by the Forest Service in the Beaverhead-Deerlodge National Forest northwest of Philipsburg, Montana, $190,000; the Combination Mine Site—a tailings pond and associated wastes in Lower Willow Creek located on land administered by the Forest Service in the Beaverhead-Deerlodge National Forest northwest of Philipsburg, Montana, $542,000; the Flux Mine Site—a former zinc and silver mine and associated mine adits and waste rock dumps located on land administered by the Forest Service in the Coronado National Forest southeast of Patagonia, Arizona, $487,000; the International Boundary Water Commission (“IBWC”) Site—the American Dam and Canal portion of the Rio Grande Canalization Project and the American Dam Field Office in El Paso, Texas, $19,000,000; the Monte Cristo Mining District Site—a historic mining district including mines, mill facilities, adits, and waste piles located partly on land administered by the Forest Service within the Mt. Baker-Snoqualmie National Forest, in Snohomish County, Washington, $5,500,000 (the Settlement also provides the State of Washington an allowed general unsecured claim of $5,500,000 for this Site); the Vasquez Boulevard/I-70 Site—a historic smelter and the residential areas surrounding it, comprising OU1, OU2, and OU3 of the Vasquez Boulevard/Interstate-70 Superfund Site, in north-central Denver, Colorado, $1,500,000.

For thirty (30) days after the date of this publication, the Department of Justice will receive comments relating to the Settlement Agreement. Comments should be addressed to the Assistant Attorney General, Environment and Natural Resources Division, and either e-mailed to pubcomment-ees.enrd@usdoj.gov or mailed to P.O. Box 7611, U.S. Department of Justice, Washington, DC 20044-7611. In either case, comments should refer to In re Asarco LLC, Case No. 05-21207 (Bankr. S.D. Tex.), D.J. Ref. No. 90-11-3-08633. Commenters may request an opportunity for a public meeting in the affected area, in accordance with section 7003(d) of RCRA, 42 U.S.C. 6973(d).

The proposed Settlement Agreement may be examined at: the Office of the United States Attorney for the Southern District of Texas, 800 North Shoreline Blvd, #500, Corpus Chrsti, TX 78476-2001; the Region 4 Office of the United States Environmental Protection Agency, Atlanta Federal Center, 61 Forsyth Street, SW., Atlanta, GA 30303-3104; the Region 5 Office of the United States Environmental Protection Agency, 77 West Jackson Boulevard, Chicago, IL 60604-3507; the Region 6 Office of the United States Environmental Protection Agency, Fountain Place 12th Floor, Suite 1200, 1445 Ross Avenue, Dallas, TX 75202-2733; the Region 8 Office of the United States Environmental Protection Agency, 1595 Wynkoop St., Denver, CO 80202-1129; and the Region 10 Office of the United States Environmental Protection Agency, 1200 Sixth Avenue Suite 900, Seattle, WA 98101. During the comment period, the proposed Settlement Agreement may also be examined on the following Department of Justice Web site: http://www.usdoj.gov/enrd/Consent_Decrees.html. A copy of the proposed Settlement Agreement may also be obtained by mail from the Department of Justice Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $6.50 for the Settlement Agreement without attachments or $7.50 for the Settlement Agreement with attachments (25 cents per page reproduction costs) payable to the United States Treasury or, if by e-mail or fax, forward a check in that amount to the Consent Decree Library at the stated address.

Maureen Katz,
Assistant Section Chief, Environmental Enforcement Section.

[FR Doc. E9-6448 Filed 3-23-09; 8:45 am]

BILLING CODE 4410-15-P